ENVIRONMENTAL PROTECTION AGENCY

[FRL-7076-8; CWA-HQ-2001-6022; RCRA-HQ-2001-6022; CAA-HQ-6022]

Clean Water Act Class II: Proposed Administrative Settlement, Penalty Assessment and Opportunity To Comment Regarding Standard Steel, a Division of Freedom Forge Corporation; Correction

AGENCY: Environmental Protection Agency (EPA).

ACTION: Notice.

SUMMARY: On September 27, 2001, EPA published in the Federal Register, (66 FR 49379) information concerning a proposed settlement with Standard Steel, a Division of Freedom Forge Corporation (“Standard Steel'.) The purpose of this correction is to provide additional information about this settlement and to offer interested parties the opportunity to comment on all aspects of this consent agreement and proposed final order. This correction does not extend the public comment period beyond the date included in the original notice.

EPA has entered into a consent agreement with Standard Steel, a Division of Freedom Forge Corporation, to resolve violations of the Clean Water Act (“CWA”), Resource Conservation and Recovery Act (“RCRA”), Clean Air Act (“CAA”), and their implementing regulations. Standard Steel failed to prepare a complete Spill Prevention Control and Countermeasure (“SPCC”) plan, failed to provide secondary containment, and failed to complete and maintain certification forms for two facilities where it stored oil or oil products in above ground tanks. Standard Steel failed to meet all requirements of its General Permit as required by its National Pollutant Discharge Elimination System (NPDES) permit for one facility. EPA, as authorized by CWA section 311(b)(6), 33 U.S.C. 1321(b)(6), and CWA section 309(g), 33 U.S.C. 1319(g), has assessed a civil penalty for these violations. The Administrator, as required by CWA section 311(b)(6)(C), 33 U.S.C. 1321(b)(6)(C), and CWA section 309(g)(4)(A), 33 U.S.C. 1319(g)(4)(A), is hereby providing public notice of, and an opportunity for interested persons to comment on, this consent agreement and proposed final order. EPA is also providing public notice of, and opportunity for interested parties to comment on, the CAA and RCRA portions of this consent agreement.

Standard Steel failed to meet all requirements of its Title V Operating Permit at one facility by (1) Failing to timely submit its first semi-annual monitoring report; (2) failing to conduct weekly inspections for fugitive emissions and odors; (3) failing to monitor and record the pressure drop at particulate matter control devices on a weekly basis; (4) failing to maintain a log of odorous air contaminants, visible emissions and fugitive visible emission exceedances; and (5) failing to maintain a monthly record of emissions of nitrogen oxides and volatile organic compounds. EPA, as authorized by CAA section 113(d)(1), 42 U.S.C. 7413(d)(1), has assessed a civil penalty for these violations.

Standard Steel failed to conduct weekly inspections of its Electric Arc Furnace (“EAF”) dust storage area, and failed to conduct annual hazardous waste training and maintain records of such training. Standard Steel failed to develop and implement a universal waste management program. EPA, as authorized by RCRA section 3008(a)(3), 42 U.S.C. 6928(a)(3), has assessed a civil penalty for these violations.

DATES: Comments are due on or before October 29, 2001.

ADDRESSES: Mail written comments to the Enforcement & Compliance Docket and Information Center (2201A), Docket Number EC-2001-006, Office of Enforcement and Compliance Assurance, U.S. Environmental Protection Agency, 1200 Pennsylvania Avenue, NW., Mail Code 2201A, Washington, DC 20460. (Comments may be submitted on disk in WordPerfect 8.0 or earlier versions.) Written comments may be delivered in person to: Enforcement and Compliance Docket Information Center, U.S. Environmental Protection Agency, Rm. 4033, Ariel Rios Bldg., 1200 Pennsylvania Avenue, NW., Washington, DC. Submit comments electronically to docket.oeca@epa.gov. Electronic comments may be filed online at many Federal Depository Libraries.

The consent agreement, the proposed final order, and public comments, if any, may be reviewed at the Enforcement and Compliance Docket Information Center, U.S. Environmental Protection Agency, Rm. 4033, Ariel Rios Bldg., 1200 Pennsylvania Avenue, NW., Washington, DC. Persons interested in reviewing these materials must make arrangements in advance by calling the docket clerk at 202-564-2614. A reasonable fee may be charged by EPA for copying docket materials.

FOR FURTHER INFORMATION CONTACT: Beth Cavalier, Multimedia Enforcement Division (2248-A), U.S. Environmental Protection Agency, 1200 Pennsylvania Avenue NW., Washington, DC 20460; telephone (202) 564-3271; fax: (202) 564-9001; e-mail: cavalier.beth@epa.gov.

SUPPLEMENTARY INFORMATION:

Electronic Copies

Electronic copies of this document are available from the EPA Home Page under the link “Laws and Regulations” at the Federal Register—Environmental Documents entry (http://www.epa.gov/fedrgstr).

I. Background

Standard Steel, a Division of Freedom Forge Corporation, is an iron and steel minimill incorporated in the State of Delaware and located at 500 North Walnut Street, Burnham, Pennsylvania 17009, and at 107 Gertrude Street, Latrobe, Pennsylvania 15650. Standard Steel disclosed, pursuant to the EPA “Incentives for Self-Policing: Discovery, Disclosures, Correction and Prevention of Violations” (“Audit Policy”), 65 FR 19618 (April 11, 2000), that it failed to prepare complete SPCC plans for two facilities where it stored oil and oil products in above ground storage tanks, in violation of the CWA section 311(b)(3) and 40 CFR part 112. Standard Steel disclosed that it had not completed and maintained at the facility the certification form contained in appendix C to 40 CFR 112.20(e) in violation of the CWA section 311(b)(3) and 40 CFR part 112. Standard Steel disclosed that it had failed to meet all requirements of its NPDES General Permit. Standard Steel failed to conduct an annual site storm water compliance evaluation and failed to update documents relating to the facility's method to control storm water discharges, failed to update the emergency coordinator list, and failed to maintain a discharge certification and authorization to commit resources at one facility in violation of CWA sections 1311(a), and 402(a) and (p) and 40 CFR part 122. Standard Steel disclosed that it had failed to meet all requirements of its Title V permit by failing to (1) Timely submit its first semi-annual monitoring report; (2) monitor and record the pressure drop at particulate matter control devices on a weekly basis; (3) maintain a monthly record of emissions of nitrogen oxides and volatile organic compounds, based on a twelve month rolling total; (4) conduct weekly inspections for fugitive emissions and odors; and (5) maintain a log of odorous air contaminants, visible emissions, and fugitive visible emissions, in violation of 25 Pa. Code sections 127.511 and 127.441 and 40 CFR 70.4(b)(3)(ii). Standard Steel disclosed that it had failed to conduct weekly inspections of its EAF dust storage area, as required by 25 Pa. Code section 265(a).174 and 40 CFR 265.174, (referencing 25 Pa. Code section 262a.34a, and 40 CFR 262.34a). Standard Steel disclosed that it had failed to conduct annual hazardous waste training, and maintain records of such training, as required by 25 Pa. Code section 265a.16 and 40 CFR 265.16, (referencing 25 Pa. Code 262a.34a, and 40 CFR 262.34a.). Standard Steel disclosed that it had failed to develop and implement a universal waste management program, in accordance with the requirements found at 25 Pa. Code section 266b, and 40 CFR part 273.

EPA determined that Standard Steel met the criteria set out in the Audit Policy for a 100% waiver of the gravity component of the penalty. As a result, EPA waived the gravity based penalty ($275,136) and proposed a settlement penalty amount of fourteen thousand, three hundred and fifty dollars ($14,350.00). This is the amount of the economic benefit gained by Standard Steel, attributable to its delayed compliance with the SPCC regulations and General Permit conditions, Title V permit conditions, and RCRA hazardous waste regulations. Standard Steel has agreed to pay this amount in civil penalties. EPA and Standard Steel negotiated and signed an administrative consent agreement, following the Consolidated Rules of Procedure, 40 CFR 22.13, on September 12, 2001 (In Re: Standard Steel, a Division of Freedom Forge, Docket No. CWA-HQ-2001-6022). This consent agreement is subject to public notice and comment under CWA section 311(b)(6), 33 U.S.C. 1321(b)(6) and CWA section 309(g)(4)(A), 33 U.S.C. 1319(g)(4)(A). EPA is expanding this opportunity for public comment to all other aspects of this consent agreement.

Under CWA section 311(b)(6)(A), 33 U.S.C. 1321 (b)(6)(A), any owner, operator, or person in charge of a vessel, onshore facility, or offshore facility from which oil is discharged in violation of the CWA section 311 (b)(3), 33 U.S.C. 1321 (b)(3), or who fails or refuses to comply with any regulations that have been issued under CWA section 311 (j), 33 U.S.C. 1321(j), may be assessed an administrative civil penalty of up to $137,500 by EPA. Class II proceedings under CWA section 311(b)(6) are conducted in accordance with 40 CFR part 22.

Under CWA section 309(g)(1)(A), 33 U.S.C. 1319 (g)(1)(A), any person found in violation of any permit condition or limitation implementing any of such sections in a permit issued under the CWA section 402(a), 33 U.S.C. 1342, or the CWA section 301(a), 33 U.S.C. 1311(a), may be assessed an administrative civil penalty of up to $125,000 by EPA. Class II proceedings under CWA section 309(g)(1)(A) are conducted in accordance with 40 CFR part 22.

Under RCRA section 3008(a), 42 U.S.C. 6928(a), any person found in violation of any requirement of this subchapter may be issued an order assessing a civil penalty for any past or current violation, and/or requiring compliance immediately or within a specified time period. Proceedings under RCRA section 3008(a) are conducted in accordance with 40 CFR part 22.

Under CAA section 113(d), the Administrator may issue an administrative order assessing a civil penalty against any person who has violated an applicable implementation plan or any other requirement of the Act, including any rule, order, waiver, permit or plan. Proceedings under CAA section 113(d) are conducted in accordance with 40 CFR part 22.

The procedures by which the public may comment on a proposed Class II penalty order, or participate in a Clean Water Act Class II penalty proceeding, are set forth in 40 CFR 22.45. The deadline for submitting public comment on this proposed final order is October 29, 2001. All comments will be transferred to the Environmental Appeals Board (“EAB”) of EPA for consideration. The powers and duties of the EAB are outlined in 40 CFR 22.04(a).

Pursuant to CWA section 311(b)(6)(C) and CWA section 309(g)(4)(A), EPA will not issue an order in this proceeding prior to the close of the public comment period.

Dated: October 1, 2001.
David A. Nielsen,
Director, Multimedia Enforcement Division, Office of Enforcement and Compliance Assurance.

[FR Doc. 01-25412 Filed 10-9-01; 8:45 am]

BILLING CODE 6560-50-P